NATIONAL ARCHIVES AND RECORDS ADMINISTRATION

Agency Information Collection Activities: Proposed Collection; Comment Request

AGENCY: National Archives and Records Administration (NARA).

ACTION: Notice.

SUMMARY: NARA is giving public notice that the agency proposes to request use of a voluntary survey of visitors to the National Archives Experience (NAE) in Washington, DC. The information will be used to determine how the various components of NAE affect visitors' level of satisfaction with the NAE and how effectively the venues communicate that records matter. The information will support adjustments in our offerings that will improve the overall visitor experience. The public is invited to comment on the proposed information collection pursuant to the Paperwork Reduction Act of 1995.

DATES: Written comments must be received on or before October 18, 2004 to be assured of consideration.

ADDRESSES: Comments should be sent to: Paperwork Reduction Act Comments (NHP), Room 4400, National Archives and Records Administration, 8601 Adelphi Rd, College Park, MD 20740-6001; or faxed to 301-837-3213; or electronically mailed to tamee.fechhelm@nara.gov.

FOR FURTHER INFORMATION CONTACT: Requests for additional information or copies of the proposed information collection and supporting statement should be directed to Tamee Fechhelm at telephone number 301-837-1694, or fax number 301-837-3213.

SUPPLEMENTARY INFORMATION: Pursuant to the Paperwork Reduction Act of 1995 (Public Law 104-13), NARA invites the general public and other Federal agencies to comment on proposed information collections. The comments and suggestions should address one or more of the following points: (a) Whether the proposed information collection is necessary for the proper performance of the functions of NARA; (b) the accuracy of NARA's estimate of the burden of the proposed information collection; (c) ways to enhance the quality, utility, and clarity of the information to be collected; and (d) ways, including the use of information technology, to minimize the burden of the collection of information on respondents. The comments that are submitted will be summarized and included in the NARA request for Office of Management and Budget (OMB) approval. All comments will become a matter of public record. In this notice, NARA is soliciting comments concerning the following information collection:

Title: National Archives Experience—Visitors Survey.

OMB number: 3095-OOXX.

Agency form number: N/A.

Type of review: Regular.

Affected public: Individuals who visit the National Archives Experience in Washington, DC.

Estimated number of respondents: 5,250.

Estimated time per response: 12 minutes.

Frequency of response: On occasion (when an individual visits the National Archives Experience in Washington, DC).

Estimated total annual burden hours: 1,050 hours.

Abstract: The information collection is prescribed by EO 126862 issued September 11, 1993, which requires Federal agencies to survey their customers concerning customer service. The general purpose of this voluntary data collection is to (1) provide baseline data concerning the effectiveness of the National Archives Experience and its several venues in enhancing visitors' understanding that records matter, (2) measure customer satisfaction with the NAE, and (3) identify additional opportunities for improving the customers' experience.

Dated: August 10, 2004.
L. Reynolds Cahoon,
Assistant Archivist for Human Resources and Information Services.

[FR Doc. 04-18592 Filed 8-16-04; 8:45 am]

BILLING CODE 7515-01-P